DEPARTMENT OF DEFENSE

Department of the Army; Corps of Engineers

Notice of Availability of a Final General Conformity Determination and Record of Decision for the Pacific L.A. Marine Terminal LLC Crude Oil Terminal Project, Port of Los Angeles, Los Angeles County, CA

AGENCY: Department of the Army—U.S. Army Corps of Engineers, DoD.

ACTION: Notice of availability.

SUMMARY: In November 2008, the Los Angeles Harbor Department (LAHD) and the U.S. Army Corps of Engineers, Los Angeles District, Regulatory Division (Corps) published a joint Final Supplemental Environmental Impact Statement and Subsequent Environmental Impact Report (SEIS/SEIR) for the development of a marine oil terminal at Berth 408 on Pier 400 in the Port of Los Angeles, Los Angeles County, California (Project). On February 19, 2010, the Corps published a draft general conformity determination for the Federal action associated with the Project. Comments were received on the draft general conformity determination until March 22, 2010. A general conformity determination was required because Project construction would require Federal action (i.e., issuance of a Corps permit for work and structures in and over navigable waters of the U.S. pursuant to Section 10 of the River and Harbor Act) and not all the Federal action's direct and indirect air emissions would be below specified de minimis thresholds (40 CFR 51.853(b)). On June 1, 2010 and June 3, 2010, the Corps made a final general conformity determination and completed its environmental review and executed the Record of Decision (ROD), respectively, for the Federal action associated with the Project. The Corps considered and responded to all comments received in making the final general conformity determination and executing the ROD.

The public can request copies of the final general conformity determination document or the ROD from the Corps at the address listed below, or can view or download the final general conformity determination document from the Corps' Website (http://www.spl.usace.army.mil/regulatory/POLA.htm, scroll down to the link under Pier 400 Crude Oil Marine Terminal Project) or the Port's Web site (http://www.portoflosangeles.org/environment/public_notices.asp, scroll down to link under Pacific L.A. Marine Terminal LLC Crude Oil Terminal). In addition, copies of the final general conformity document are available for review during the next 30 days at the following libraries: L.A. Public Library, Central Branch, 630 West 5th Street, Los Angeles, California; L.A. Public Library, San Pedro Branch, 921 South Gaffey Street, San Pedro, California; and L.A. Public Library, Wilmington Branch, 1300 North Avalon, Wilmington, California.

FOR FURTHER INFORMATION CONTACT: Questions or comments concerning the final general conformity determination or the ROD should be directed to Dr. Spencer D. MacNeil, Senior Project Manager, North Coast Branch, Regulatory Division, U.S. Army Corps of Engineers, 2151 Alessandro Drive, Suite 110, Ventura, California 93001, (805) 585-2152.

SUPPLEMENTARY INFORMATION: None.

Dated: June 10, 2010.
David J. Castanon,
Chief, Regulatory Division, Los Angeles District.

[FR Doc. 2010-14776 Filed 6-17-10; 8:45 am]

BILLING CODE 3720-58-P